DEPARTMENT OF COMMERCE

National Oceanic and Atmospheric Administration

[RTID 0648-XE879]

Magnuson-Stevens Act Provisions; Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) renewal application from the New Hampshire Fish and Game Department contains all of the required information and warrants further consideration. The EFP would allow federally permitted fishing vessels to fish outside fishery regulations in support of exempted fishing activities proposed by the applicant. Regulations under the Magnuson-Stevens Fishery Conservation and Management Act and the Atlantic Coastal Fisheries Cooperative Management Act require publication of this notification to provide interested parties the opportunity to comment on applications for proposed EFPs.

DATES: Comments must be received on or before May 19, 2025.

ADDRESSES: You may submit written comments by email at nmfs.gar.efp@noaa.gov. Include in the subject line “NHFG Early Benthic Phase Lobster Trap EFP.” All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Christine Ford, Fishery Management Specialist, christine.ford@noaa.gov, 978 281-9185.

SUPPLEMENTARY INFORMATION: The New Hampshire Fish and Game Department (NHFG) submitted a complete application for an EFP to conduct commercial fishing activities that the regulations would otherwise restrict. The EFP would allow NHFG to continue pilot testing of early benthic-phase (EBP) lobster traps, designed to target juvenile lobsters between 15- and 60-millimeter (mm) carapace length (CL), to determine their feasibility for broader use in lobster surveys. This EFP would exempt the participating vessels from the Federal regulations in table 1; a summary of the project is provided in table 2.

Table 1—Requested Exemptions
CFR citation | Regulation | Need for exemption
50 CFR 697.21(c) and 697.21(d) | Gear specification requirements | To allow for the use of modified traps with no escape vents or ghost panels.
50 CFR 697.19 | Trap limit and trap tag requirements | To allow for four additional untagged traps per vessel (20 total).
50 CFR 697.20(a), 697.20(b), 697.20(d), and 697.20(g) | Possession restrictions | To allow for onboard biological sampling of undersized, oversized, v-notched, and egg-bearing lobsters.
50 CFR 697.21(a) | Gear identification and marking requirements | To allow for the use of 4 unmarked traps per vessel (20 total).

Table 2—Project Summary
Project title | Testing an EBP Lobster Trap.
Project start | 06/01/2025.
Project end | 05/31/2026.
Project objectives | To continue testing an early-benthic-phase lobster trap, which targets lobsters between 15- and 60-mm carapace lengths, to determine its feasibility for broader use in lobster surveys.
Project location | Offshore Gulf of Maine & Georges Bank; Statistical Areas 513, 522, 525, 526, 537, 561, and 562.
Number of vessels | Up to 5.
Number of trips | 500.
Trip duration (days) | Up to 8.
Total number of days | Up to 4000.
Gear type(s) | Trap/pot (modified—see project narrative).
Number of tows or sets | Up to 4 per trip; up to 2000 total.
Duration of tows or sets | ~ 4 days.

Project Narrative

The participants would place four EBP traps on two of their existing trawls (two EBP traps per trawl) and haul them up to twice per trip (for a total of up to four hauls per trip) during the course of the vessel's normal fishing activity. The EBP traps are 80-centimeter (cm) square traps based on a modified crawfish trap. They have four square openings, measuring less than 2 inches (5.08 cm), which lead to ramps that drop the lobsters into a baited kitchen. Inside the traps, there are additional ramps that lead the lobsters to four cylindrical parlors with vertical openings. The traps are attached to cement runners that provide weight and maintain proper orientation. The crews would rig the EBP traps within Atlantic Large Whale Take Reduction Plan-compliant commercial trawls, resulting in no additional end lines. Each vessel would fish four traps above their allocation, but would remain within the universal Exclusive Economic Zone Offshore Management Area 3 trap cap. At each haul, the crew would measure, sex, and promptly release all lobsters and Jonah crabs caught in the EBP traps; any bycatch would be recorded and immediately released. They would also sample catch from two standard traps per trawl (four total) as control data. Legal catch from standard traps would be landed for sale.

The goal of this project is to test the selectivity of the EBP trap (versus ventless traps that often catch eel and crab), and the scalability of its use. If successful, EBP traps could be used in lobster surveys to provide information about larval-settlement patterns and juvenile nursery grounds. During the 2023 testing, 108 lobsters ranging from 28 to 67 mm CL were caught. The EBP collector was redesigned to target lobsters between 15-60 mm CL for the 2024 testing. Results are pending, as the 2024 testing is not complete.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 28, 2025.
Karen H. Abrams,
Acting Director, Office of Sustainable Fisheries, National Marine Fisheries Service.

[FR Doc. 2025-07623 Filed 5-1-25; 8:45 am]

BILLING CODE 3510-22-P